DEPARTMENT OF TRANSPORTATION

Office of the Secretary

Notice of Applications for Certificates of Public Convenience and Necessity and Foreign Air Carrier Permits Filed Under Subpart B (Formerly Subpart Q) During the Week Ending August 29, 2009

The following Applications for Certificates of Public Convenience and Necessity and Foreign Air Carrier Permits were filed under Subpart B (formerly Subpart Q) of the Department of Transportation's Procedural Regulations (See 14 CFR 301.201 et seq.). The due date for Answers, Conforming Applications, or Motions to Modify Scope are set forth below for each application. Following the Answer period DOT may process the application by expedited procedures. Such procedures may consist of the adoption of a show-cause order, a tentative order, or in appropriate cases a final order without further proceedings.

Docket Number: DOT-OST-2003-16690.

Date Filed: August 28, 2009.

Due Date for Answers, Conforming Applications, or Motion to Modify Scope: September 18, 2009.

Description: Application of Arrow Air, Inc. requesting renewal of its certificate of public convenience and necessity for scheduled all-cargo foreign air transportation of property and mail between the terminal point Miami, Florida on the one hand and the co-terminal points Manaus, Rio de Janeiro and Sao Paulo, Brazil on the other hand. Arrow also requests renewal of its designation and allocation of five (5) weekly frequencies.

Docket Number: DOT-OST-2009-0205.

Date Filed: August 28, 2009.

Due Date for Answers, Conforming Applications, or Motion to Modify Scope: September 18, 2009.

Description: Joint Application of Republic Airways Holdings, Inc. (“RJET”) and Frontier Airlines, Inc. (“Frontier”) requesting disclaimer of jurisdiction or, in the alternative, approval of the de facto transfer of international route authorities held by Frontier that will result from RJET's acquisition of Frontier's corporate parent, Frontier Airlines Holdings, Inc.

Docket Number: DOT-OST-2009-0208.

Date Filed: August 28, 2009.

Due Date for Answers, Conforming Applications, or Motion to Modify Scope: September 18, 2009.

Description: Application of KaiserAir, Inc. requesting a certificate of public convenience and necessity authorizing it to conduct interstate charter air transportation of persons, property and mail with large aircraft.

Renee V. Wright,
Program Manager, Docket Operations, Federal Register Liaison.

[FR Doc. E9-21803 Filed 9-9-09; 8:45 am]

BILLING CODE 4910-9X-P